OVERSEAS PRIVATE INVESTMENT CORPORATION

Sunshine Act Meeting

Cancellation Notice—OPIC September 10, 2015 Public Hearing

OPIC's Sunshine Act notice of its Public Hearing in Conjunction with each Board meeting was published in the Federal Register (80 FR 50051) on August 18, 2015. No requests were received to provide testimony or submit written statements for the record; therefore, OPIC's public hearing scheduled for 2 p.m., September 10, 2015 in conjunction with OPIC's September 17, 2015 Board of Directors meeting has been cancelled.

CONTACT PERSON FOR INFORMATION: Information on the hearing cancellation may be obtained from Catherine F.I. Andrade at (202) 336-8768, or via email at Catherine.Andrade@opic.gov.

Dated: September 8, 2015.
Catherine F.I. Andrade,
OPIC Corporate Secretary.

[FR Doc. 2015-22956 Filed 9-8-15; 4:15 pm]

BILLING CODE 3210-1-P